DEPARTMENT OF TRANSPORTATION

Coast Guard

[USCG-2000-7514]

National Preparedness for Response Exercise Program (PREP)

AGENCY: Coast Guard, DOT.

ACTION: Extension of comment period.

SUMMARY: On April 13, 2001, the Coast Guard published a notice in the Federal Register requesting comments on proposed changes to the 1994 National Preparedness for Response Exercise Program (PREP) guidelines, and stated the proposed changes would be available by June 1, 2001. However, they were not made available in the Docket until July 3, 2001. Because of this delay, the Coast Guard is extending the comment period through October 3, 2001.

DATES: Comments on the proposed changes to the PREP Guidelines must reach the Docket Management Facility on or before October 3, 2001.

ADDRESSES: To make sure your comments and related material are not entered more than once in the docket, please submit them by only one of the following means:

(1) By mail to the Docket Management Facility (USCG-2000-7514), U.S. Department of Transportation, room PL-401, 400 Seventh Street SW, Washington, DC 20590-0001.

(2) By hand delivery to room PL-401 on the Plaza level of the Nassif Building, 400 Seventh Street SW, Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this request for comments on PREP proposed guidelines. Comments will become part of this docket and will be available for inspection or copying at room PL-401, located on the Plaza Level of the Nassif Building at the same address between 10 a.m. and 5 p.m., Monday through Friday, except Federal holidays. You may electronically access the public docket on the Internet at http://dms.dot.gov.

FOR FURTHER INFORMATION CONTACT: If you have questions on this notice or general information regarding the PREP program, contact Robert Pond, Office of Response, Plan and Preparedness Division (G-MOR-2), U.S. Coast Guard Headquarters, telephone 202-267-6603, fax 202-267-4065 or e-mail rpond@comdt.uscg.mil. If you have questions on viewing, or submitting material to the docket, contact Dorothy Beard, Chief, Dockets, Department of Transportation, telephone 202-366-5149.

Request for Comments

We encourage you to participate by submitting comments and related material. If you do so, please include your name and address, identify the docket number (USCG-2000-7514), indicate the specific proposed change to which each comment applies, and give the reason for each comment. You may submit your comments and materials by mail or hand delivery. Submit them in an unbound format, no larger than 8½ X 11 inches, suitable for copying and electronic filing. If you submit them by mail and would like confirmation of receipt, please enclose a stamped, self-addressed postcard or envelope. We will consider all comments and material received on or before October 3, 2001.

SUPPLEMENTARY INFORMATION: On April 13, 2001, the Coast Guard published a notice in the Federal Register (66 FR 19282) requesting comments on proposed changes to the 1994 National Preparedness for Response Exercise Program (PREP) guidelines, and stated the proposed changes would be available in the Docket by June 1, 2001. However, they were not made available until July 3, 2001. Because of this delay, the Coast Guard is extending the comment period through October 3, 2001.

Dated: July 31, 2001.
J. G. Lantz,
Captain, U.S. Coast Guard, Acting Director of Standards, Marine Safety and Environmental Protection.

[FR Doc. 01-19646 Filed 8-6-01; 8:45 am]

BILLING CODE 4910-15-U